GENERAL SERVICES ADMINISTRATION

Privacy Act of 1974; Notice of Updated System of Records

AGENCY: General Services Administration.

ACTION: Notice.

SUMMARY: The General Services Administration (GSA) is providing notice of a revision to the record system Personnel Security Files (GSA/HRO-37). The system provides control over personnel security. The revisions ensure that the system of records meet the requirements of Homeland Security Presidential Directive 12 (HSPD-12) and that individuals be fully informed about collection of their personal information.

EFFECTIVE DATE: The system of records will become effective without further notice on November 27, 2006 unless comments received on or before that date result in a contrary determination.

FOR FURTHER INFORMATION: Call or e-mail the GSA Privacy Act Officer: telephone 202-501-1452; e-mail gsa.privacyact@gsa.gov.

ADDRESSES: GSA Privacy Act Officer (CIB), General Services Administration, 1800 F Street, NW., Washington, DC 20405.

SUPPLEMENTARY INFORMATION: To comply with new requirements of Homeland Security Presidential Directive 12 (HSPD-12) GSA updated its personnel security system. This notice explains the new categories of records in the system and the authorities for maintaining the system.

Dated: September 21, 2006.
Cheryl Paige,
Acting Director, Office of Information Management.

GSA/HRO-37

System name:

Personnel Security files.

Security classification:

Some records in the system are classified under Executive Order 12958 as amended.

System location:

Personnel security files are maintained with other appropriate records in the Personnel Security Requirements Division (CPR), GSA Building, 1800 F Street, NW., Washington, DC 20405.

Categories of individuals covered by the system:

Employees, applicants for employment, former employees of GSA and of commissions, committees, small agencies serviced by GSA, contractors, students, interns, volunteers, individuals authorized to perform or use services provided in GSA facilities (e.g. Credit Union or Fitness Center) and individuals formerly in any of these positions that require regular, ongoing access to Federal facilities, information technology systems or information classified in the interest of national security. Included are historical researchers, experts or consultants, and employees of contractors performing services for GSA.

Categories of records in the system:

Personnel security files contain information such as name, former names, date and place of birth, home address, phone numbers, height, weight, hair color, eye color, sex, passport information, military information, civil court information, employment history, residential history, Social Security Number, occupation, experience, and investigative material, education and degrees earned, names of associates and references and their contact information, citizenship, names of relatives, citizenship of relatives, names of relatives who work for the Federal government, criminal history, mental health history, drug use, financial information, fingerprints, summary report of investigation, results of suitability decisions, level of security clearance, date of issuance of security clearance, requests for appeals, witness statements, investigator's notes, tax return information, credit reports, security violations, circumstances of violation, and agency action taken.

Forms:

SF-85, SF-85P, SF-86, SF-87, FCRA, OF306, FD258.

Authority for maintaining the system:

Depending upon the type of investigation, GSA is authorized to ask for this information under Executive Orders 10450 as amended, 10865 as amended, 12968 as amended, and 12958 as amended; sections 3301 and 9101 of title 5, U.S. Code; sections 2165 and 2201 of title 42, U.S. Code; parts 5, 732, and 736 of title 5, Code of Federal Regulations; and Homeland Security Presidential Directive 12.

Purpose:

To assemble in one system information pertaining to issuing security clearances and public trust certifications, suitability decisions, fitness for service of applicants for federal employment and contract positions, and administrative actions. Information security files also are used for recommending administrative action against employees found to be violating GSA classified national security information regulations.

Routine uses of records in the system, including the types of users and the purposes of such uses:

a. In any legal proceeding, where pertinent, to which GSA is a party before a court or administrative body.

b. To the Department of Justice when: (a) The agency or any component thereof; or (b) any employee of the agency in his or her official capacity; (c) any employee of the agency in his or her individual capacity where agency or the Department of Justice has agreed to represent the employee; or (d) the United States Government, is a party to litigation or has an interest in such litigation, and by careful review, the agency determines that the records are both relevant and necessary to the litigation and the use of such records by DOJ is therefore deemed by the agency to be for a purpose compatible with the purpose for which the agency collected the records.

c. To authorized officials engaged in investigating or settling a grievance, complaint, or appeal filed by an individual who is the subject of the record.

d. Except as noted on Forms SF-85, 85-P, and 86, when a records on its face, or in conjunction with other records, indicates a violation or potential violation of law, whether civil, criminal, or regulatory in nature, and whether arising by general statute or particular program statute, or by regulation, rule, or order issued pursuant therto, disclosure may be made to the appropriate public authority, whether Federal, foreign, State, local or tribal, or otherwise, responsible for enforcing, investigating or prosecuting such violation or charged with enforcing or implementing the statute, or rule, regulation, or order issued pursuant thereto, if the information disclosed is relevant to any enforcement, regulatory, investigative or prosecutorial responsibility of the receiving entity.

e. To a Federal agency in connection with the hiring or retention of an employee; the issuance of a security clearance; the reporting of an investigation; the letting of a contract; or the issuance of a grant, license, or other benefit to the extent that the information is relevant and necessary to a decision.

f. To agency contractors or volunteers who have been engaged to assist the agency in the performance of a contract service, cooperative agreement, or other activity related to this system of records and who need to have access to the records in order to perform their activity. Recipients shall be required to comply with the requirements of the Privacy Act of 1974, as amended, 5 U.S.C. 552a.

g. To the Office of Personnel Management (OPM), the Office of Management and Budget (OMB), or the Government Accountability Office (GAO) when the information is required for program evaluation purposes.

h. To a Member of Congress or staff on behalf of and at the request of the individual who is the subject of the record.

i. To an expert, consultant, or contractor of GSA in the performance of a Federal duty to which the information is reluctant.

j. To the National Archives and Records Administration (NARA) for records management purposes.

k. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders, or directives.

l. To the Office of Management and Budget when necessary to the review of private relief legislation pursuant to OMB Circular No. A-19.

Policies and practices for storing, retrieving, accessing, retaining, and disposing of records in the system:

Storage:

Records are maintained on paper and electronically in secure locations. Records are maintained in the system of records Comprehensive Human Resources Integrated System (GSA/PPFM-8) in the personnel security module and associated equipment.

Retrievability:

Records are retrieved by name and Social Security Number.

Safeguards:

Personnel security file records are stored in a secured office in cabinets with access limited to authorized employees. A password system protects access to computer records. Access to the records is limited to those employees who have a need for them in the performance of their official duties.

Retention and disposal:

These records are retained and disposed of in accordance with General Records Schedule 18, item 22, approved by the National Archives and Records Administration (NARA). Records are destroyed by burning, pulping, or shredding, as scheduled in the HB GSA Records Maintenance and Disposition System (OAD P 1820.2A).

System manager and address:

The official responsible for personnel security files in the system is the Director, Personnel Security Requirements Division (CPR), 1800 F Street, NW., Washington, DC 20405.

Notification procedure:

Inquiries by individuals as to whether the system contains a record pertaining to themselves should be addressed to the system manager.

Record access procedures:

Requests from individuals for access to records should be addressed to the system manager and should include full name (maiden name where appropriate), address, and date and place of birth. General inquiries may be made by telephone.

Procedures for contesting records:

GSA rules for accessing records, contesting their content, and appealing initial decisions appear in 41 CFR part 105-64.

Record sources:

Individuals, employees, informants, law enforcement agencies, other Government agencies, employees' references, co-workers, neighbors, educational institutions, and intelligence sources. Security violation information is obtained from a variety of sources, such as security guard's reports, security inspections, witnesses, supervisor's reports, and audit reports.

Files exempted from parts of the act:

Under 5 U.S.C. 552a(k)(5), the personnel security case files in the system of records are exempt from subsections (c)(3); (d); (e)(1); (e)(4)(G), (H), and (I); and (f) of the act. Information will be withheld to the extent it identifies witnesses promised confidentiality as a condition of providing information during the course of the background investigation.

[FR Doc. E6-17070 Filed 10-13-06; 8:45 am]

BILLING CODE 6820-34-P